ENVIRONMENTAL PROTECTION AGENCY

[FRL-9903-36-Region 10]

Proposed Issuance of the NPDES General Permit for Oil and Gas Geotechnical Surveying and Related Activities in Federal Waters of the Beaufort and Chukchi Seas

AGENCY: Environmental Protection Agency (EPA).

ACTION: Notice of proposed issuance of general permit.

SUMMARY: EPA Region 10 proposes to issue a National Pollutant Discharge Elimination System (NPDES) General Permit for Oil and Gas Geotechnical Surveying and Related Activities in Federal Waters of the Beaufort and Chukchi Seas (Permit No. AKG-28-4300). As proposed, the Geotechnical General Permit authorizes twelve types of discharges from facilities engaged in oil and gas geotechnical surveys to evaluate the subsurface characteristics of the seafloor and related activities in federal waters of the Beaufort and Chukchi Seas. Geotechnical borings are collected to assess the structural properties of subsurface soil conditions for potential placement of oil and gas installations, which may include production and drilling platforms, ice islands, anchor structures for floating exploration drilling vessels, and potential buried pipeline corridors. Geotechnical surveys result in a disturbance of the seafloor and produce discharges consisting of soil, rock and cuttings materials, in addition to facility-specific waste streams authorized under this general permit. Geotechnical related activities also result in a disturbance of the seafloor and produce similar discharges. These activities may include feasibility testing of equipment that disturbs the seafloor, and testing and evaluation of trenching technologies.

DATES: Comments. The public comment period for the draft Geotechnical General Permit will be from the date of publication of this Notice until January 27, 2014. Comments must be received or post-marked by no later than midnight Pacific Standard Time on January 27, 2014.

Public Hearings. EPA will hold public hearings on January 8, 2014, in Barrow, Alaska, at the Inupiat Heritage Center and via teleconference on January 10, 2014. The hearing in Barrow, AK will begin at 6:00 p.m. (Alaska Standard Time) and will continue until all testimony is heard or 10:00 p.m., whichever is earlier. The teleconference hearing will begin at 4:00 p.m. (Alaska Standard Time) and will continue until all testimony is heard or 7:00 p.m., whichever is earlier.

See SUPPLEMENTARY INFORMATION for additional information.

ADDRESSES: You may submit comments by any of the following methods. EPA will consider all comments received during the public comment period prior to making its final decision.

Mail: Send paper comments to Erin Seyfried, Office of Water and Watersheds, Mail Stop OWW-130, 1200 6th Avenue, Suite 900, Seattle, WA 98101-3140.

Email: Send electronic comments to R10geotechpermit@epa.gov.

Fax: Fax comments to the attention of Erin Seyfried at (206) 553-0165.

Hand Delivery/Courier: Deliver comments to Erin Seyfried, Office of Water and Watersheds, Mail Stop OWW-130, 1200 6th Avenue, Suite 900, Seattle, WA 98101-3140. Call (206) 553-0523 before delivery to verify business hours.

Viewing and/or Obtaining Copies of Documents. A copy of the draft Geotechnical General Permit and the Fact Sheet, which explains the proposal in detail, may be obtained by contacting EPA at 1 (800) 424-4372. Copies of the documents are also available for viewing and downloading at: http://yosemite.epa.gov/r10/water.nsf/npdes+permits/DraftPermitsAK http://yosemite.epa.gov/r10/water.nsf/npdes+permits/arctic-gp See SUPPLEMENTARY INFORMATION for other document viewing locations.

FOR FURTHER INFORMATION CONTACT: Erin Seyfried, Office of Water and Watersheds, U.S. Environmental Protection Agency, Region 10, Mail Stop OWW-130, 1200 6th Avenue, Suite 900, Seattle, WA 98101-3140, (206) 553-1448, seyfried.erin@epa.gov.

SUPPLEMENTARY INFORMATION: The Fact Sheet describes the types of facilities and the discharges proposed to be authorized by the Geotechnical General Permit; the proposed effluent limits and other conditions; maps and descriptions of the proposed Area of Coverage; and a summary of the supporting technical materials.

Public Hearing Locations and Information. The locations, teleconference information, and general agenda for the hearings are:

(1) January 8, 2014, Inupiat Heritage Center, 5421 North Star Street, Barrow, AK 99723, Teleconference number 1 (866) 299-3188, code 9072711272#; 4:00 p.m.-5:00 p.m. Open House; 6:00 p.m.-7:00 p.m. Presentation; 7:00 p.m.-10:00 p.m. Testimony.

(2) January 10, 2014; Teleconference Only. Teleconference number 1 (866) 299-3188, code 9072711272#; 4:00 p.m.-4:30 p.m. Presentation; 4:30 p.m.-7:00 p.m. Testimony.

Public Hearing Procedures. Public hearings will be conducted in accordance with 40 CFR 124.12 and will provide interested persons with the opportunity to give written and/or verbal comments for the official record. The following procedures will be used at the public hearings:

(1) The presiding officer shall conduct the hearing in a manner which will allow all interested persons wishing to make verbal comments an opportunity to do so (however, the presiding officer may inform attendees of any time limits during the opening statement of the hearing);

(2) Any person may submit written statements or documents for the hearing record;

(3) The presiding officer may, in his or her discretion, exclude verbal comments if such testimony is overly repetitious of previous testimony or is not relevant to the draft Geotechnical General Permit;

(4) The transcripts of the hearings, together with copies of all submitted statements and documents, shall become a part of the record submitted to the Director of the Office of Water and Watersheds;

(5) The hearing record shall be left open until the deadline for receipt of comments, specified at the beginning of this Notice, to allow any person enough time to submit additional written statements or to present views or evidence tending to rebut or support testimony presented at the public hearing;

(6) Hearing testimony may be provided orally or in written format. Commenters providing verbal comments are encouraged to provide written comments to ensure accuracy of the record and for use of EPA and other interested persons. Persons wishing to make verbal comments supporting their written statements are encouraged to give a summary of their points rather than reading lengthy written comments verbatim into the record.

All comments related to the draft Geotechnical General Permit and Fact Sheet received by EPA Region 10 by the deadline for receipt of comments, or presented at the public hearing, will be considered by EPA before taking final action on the General Permit.

Document Viewing Locations. The draft Geotechnical General Permit and Fact Sheet may also be viewed at the following locations:

(1) EPA Region 10 Library, Park Place Building, 1200 6th Avenue, Suite 900, Seattle, WA 98101; (206) 553-1289.

(2) EPA Region 10, Alaska Operations Office, 222 W 7th Avenue, #19, Room 537, Anchorage, AK 99513; (907) 271-5083.

(3) DEC Anchorage office, 555 Cordova Street, Anchorage, AK 99501; (907) 269-7235.

(4) Z. J. Loussac Public Library, 3600 Denali Street, Anchorage, AK 99503; (907) 343-2975.

(5) North Slope Borough School District Library/Media Center, Pouch 169, 829 Aivak Street, Barrow, AK 99723; (907) 852-5311.

EPA's current administrative record for the draft Geotechnical General Permit is available for review at the EPA Region 10 Office, Park Place Building, 1200 6th Avenue, Suite 900, Seattle, WA 98101, between 9:00 a.m. and 4:00 p.m., Monday through Friday. Contact Erin Seyfried at seyfried.erin@epa.gov or (206) 553-1448.

Oil Spill Requirements. Section 311 of the Act, 33 U.S.C. 1321, prohibits the discharge of oil and hazardous materials in harmful quantities. Discharges authorized under the Geotechnical General Permit are excluded from the provisions of CWA Section 311, 33 U.S.C. 1321. However, the Geotechnical General Permit will not preclude the institution of legal action, or relieve the permittees from any responsibilities, liabilities, or penalties for other unauthorized discharges of oil and hazardous materials, which are covered by Section 311.

Endangered Species Act. Section 7 of the Endangered Species Act (ESA), 16 U.S.C. 1531-1544, requires federal agencies to consult with the National Marine Fisheries Service (NMFS) and the U.S. Fish and Wildlife Service (USFWS) if their actions have the potential to either beneficially or adversely affect any threatened or endangered species. In accordance with ESA requirements, EPA has initiated consultation with NMFS and USFWS, and has prepared a Biological Evaluation (BE) for the Geotechnical General Permit, which concludes that the General Permit is not likely to adversely affect any threatened or endangered species or their designated critical habitat areas. The BE has been submitted to NMFS and USFWS for review and concurrence during the public comment period. EPA will obtain a determination from NMFS and USFWS prior to issuing the Geotechnical General Permit.

Essential Fish Habitat. The Magnuson-Stevens Fishery Conservation and Management Act requires EPA to consult with NMFS when a proposed permit action has the potential to adversely affect Essential Fish Habitat (EFH). An EFH Assessment has been prepared for the Geotechnical General Permit.

Coastal Zone Management Act. As of July 1, 2011, there is no longer a Coastal Zone Management Act (CZMA) program in Alaska. Consequently, federal agencies are no longer required to provide the State of Alaska with CZMA consistency determinations.

Executive Order 12866. The Office of Management and Budget (OMB) exempts this action from the review requirements of Executive Order 12866 pursuant to Section 6 of that order.

Paperwork Reduction Act. EPA has reviewed the requirements imposed on regulated facilities in the Geotechnical General Permit and finds them consistent with the Paperwork Reduction Act of 1980, 44 U.S.C. 3501 et seq.

Regulatory Flexibility Act. Under the Regulatory Flexibility Act (RFA), 5 U.S.C. 601 et seq., a federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the FRA. Notwithstanding that general permits are not subject to the RFA, EPA has determined that the Geotechnical General Permit will not have a significant impact on a substantial number of small entities. This determination is based on the fact that the regulated companies are not classified as small businesses under the Small Business Administration regulations established at 49 FR 5023 et seq. (February 9, 1984). These facilities are classified as Major Group 13—Oil as Gas Extraction SIC 1311 Crude Petroleum and Natural Gas.

Authority: This action is taken under the authority of Section 402 of the Clean Water Act as amended, 42 U.S.C. 1342. I hereby provide public notice of the draft Geotechnical General Permit in accordance with 40 CFR 124.10.

Dated: November 14, 2013.
Daniel D. Opalski
Director, Office of Water and Watersheds, Region 10.

[FR Doc. 2013-28139 Filed 11-21-13; 8:45 am]

BILLING CODE 6560-50-P